DEPARTMENT OF LABOR

Office of the Secretary

Agency Information Collection Activities; Submission for OMB Review; Comment Request: Definition and Requirements for a Nationally Recognized Testing Laboratory

ACTION: Notice.

SUMMARY: On December 31, 2013, the Department of Labor (DOL) will submit the Occupational Safety and Health Administration (OSHA) sponsored information collection request (ICR) revision titled, “Definition and Requirements for a Nationally Recognized Testing Laboratory” to the Office of Management and Budget (OMB) for review and approval for use, in accordance with the Paperwork Reduction Act of 1995 (PRA), 44 U.S.C. 3501 et seq.

DATES: Submit comments on or before January 30, 2014.

ADDRESSES: A copy of this ICR with applicable supporting documentation; including a description of the likely respondents, proposed frequency of response, and estimated total burden may be obtained free of charge from the RegInfo.gov Web site at http://www.reginfo.gov/public/do/PRAViewICR?ref_nbr=201312-1218-001 (this link will only become active on January 1, 2014) or by contacting Michel Smyth by telephone at 202-693-4129 (this is not a toll-free number) or sending an email to DOL_PRA_PUBLIC@dol.gov.

Submit comments about this request by mail or courier to the Office of Information and Regulatory Affairs, Attn: OMB Desk Officer for DOL-OSHA, Office of Management and Budget, Room 10235, 725 17th Street NW., Washington, DC 20503; by Fax: 202-395-6881 (this is not a toll-free number); or by email: OIRA_submission@omb.eop.gov. Commenters are encouraged, but not required, to send a courtesy copy of any comments by mail or courier to the U.S. Department of Labor-OASAM, Office of the Chief Information Officer, Attn: Departmental Information Compliance Management Program, Room N1301, 200 Constitution Avenue NW., Washington, DC 20210; or by email: DOL_PRA_PUBLIC@dol.gov.

FOR FURTHER INFORMATION CONTACT: Contact Michel Smyth by telephone at 202-693-4129 (this is not a toll-free number) or by email at DOL_PRA_PUBLIC@dol.gov.

Authority: 44 U.S.C. 3507(a)(1)(D).

SUPPLEMENTARY INFORMATION: The ICR seeks to maintain PRA authority for the information collection requirements specified in regulations 29 CFR 1910.7, Definition and Requirements for a Nationally Recognized Testing Laboratory (NRTL), and to revise the collection by adding optional-use standardized forms to facilitate and to simplify the information collection process. A number of OSHA standards contain requirements for equipment, products, or materials. These standards often specify that a covered employer use only equipment, products, or materials tested or approved by a NRTL. This requirement helps to ensure an employer uses safe equipment, products, or materials in complying with the standards. Accordingly, the OSHA promulgated a regulation to specify procedures that an organization must follow to apply for and to maintain OSHA recognition to test and to certify equipment, products, or material for this purpose. The optional forms correspond to the application, expansion, and renewal processes defined in the NRTL Program. The Occupational Safety and Health Act authorizes the information collection provisions. See 29 U.S.C. 651 and 657.

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information that does not display a valid Control Number. See 5 CFR 1320.5(a) and 1320.6. The DOL obtains OMB approval for this information collection under Control Number 1218-0147. The current approval is scheduled to expire on December 31, 2013; however, the DOL notes that existing information collection requirements submitted to the OMB receive a month-to-month extension while they undergo review. New requirements would only take effect upon OMB approval. For additional substantive information about this ICR, see the related notice published in the Federal Register on October 2, 2013 (78 FR 60898).

Interested parties are encouraged to send comments to the OMB, Office of Information and Regulatory Affairs at the address shown in the ADDRESSES section by January 30, 2014. In order to help ensure appropriate consideration, comments should mention OMB Control Number 1218-0147. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-OSHA.

Title of Collection: Definition and Requirements of a Nationally Recognized Testing Laboratory.

OMB Control Number: 1218-0147.

Affected Public: Private Sector—business or other for-profits.

Total Estimated Number of Respondents: 68.

Total Estimated Number of Responses: 128.

Total Estimated Annual Burden Hours: 1,458.

Total Estimated Annual Other Costs Burden: $0.

Dated: December 20, 2013.
Michel Smyth,
Departmental Clearance Officer.

[FR Doc. 2013-30810 Filed 12-24-13; 8:45 am]

BILLING CODE 4510-26-P